DEPARTMENT OF ENERGY

Federal Energy Regulatory Commission

[Docket No. ER02-1656-000]

California Independent System Operator Corporation; Notice of FERC Staff Attendance

April 19, 2005.

The Federal Energy Regulatory Commission (Commission) hereby gives notice that on April 21, 22 and 29, 2005, members of its staff will attend workshops on Resource Adequacy hosted by the California Public Utilities Commission (CPUC). The workshops will take place in Commission Courtroom A of the CPUC, located at 505 Van Ness Avenue, San Francisco, CA 94102.

Sponsored by the CPUC, the meeting is open to the public, and staff's attendance is part of the Commission's ongoing outreach efforts. The meeting may discuss matters at issue in Docket No. ER02-1656-000.

For Further Information Contact: Katherine Gensler at katherine.gensler@ferc.gov; (916) 294-0275.

Magalie R. Salas,
Secretary.

[FR Doc. E5-2033 Filed 4-27-05; 8:45 am]

BILLING CODE 6717-01-P